NUCLEAR REGULATORY COMMISSION

[NRC-2010-0180]

Notice of Availability of NUREG-1800, Revision 2; “Standard Review Plan for Review of License Renewal Applications for Nuclear Power Plants” and NUREG-1801, Revision 2; “Generic Aging Lessons Learned (GALL) Report”

AGENCY: Nuclear Regulatory Commission (NRC).

ACTION: Issuance of NUREG-1800, “Standard Review Plan for Review of License Renewal Applications for Nuclear Power Plants” and NUREG-1801, Revision 2; “Generic Aging Lessons Learned (GALL) Report”.

SUMMARY: The NRC staff is issuing the revised NUREG-1800, “Standard Review Plan for Review of License Renewal Applications for Nuclear Power Plants” (SRP-LR); and the revised NUREG-1801, “Generic Aging Lessons Learned (GALL) Report.” These revised documents describe methods acceptable to the NRC staff for implementing the license renewal rule, Title 10, of the Code of Federal Regulations Part 54 (10 CFR part 54), as well as techniques used by the NRC staff in evaluating applications for license renewals. The draft versions of these documents were issued for public comment on May 18, 2010 (75 FR 27838). The NRC staff assessment of public comments and the technical bases for changes made in the GALL Report will be issued at a later date as NUREG-1950, “Disposition of Public Comments and Technical Bases for Changes in the License Renewal Guidance Documents NUREG-1800 and NUREG-1801.”

ADDRESSES: Electronic copies are available in the Commission's Public Document Room (PDR). The public may examine and have copied, for a fee, publicly available documents at the NRC's PDR, Public File Area O1 F21, One White Flint North, 11555 Rockville Pike, Rockville, Maryland. Copies are also available from the NRC's Agencywide Documents Access and Management System (ADAMS). Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The SRP-LR, Revision 2, is under ADAMS Accession Number ML103490036. The GALL Report, Revision 2, is available under ADAMS Accession Number ML103490041.

FOR FURTHER INFORMATION CONTACT: Mr. Robert Gramm, License Renewal Project Manager, Office of Nuclear Reactor Regulation, Mail Stop O-11 F1, U.S. Nuclear Regulatory Commission, Washington, DC 20555-0001, Telephone 301-415-1010, or by e-mail to Robert.Gramm@nrc.gov.

Dated at Rockville, Maryland, this 16th day of December 2010.
For the Nuclear Regulatory Commission.
Brian E. Holian,
Director, Division of License Renewal, Office of Nuclear Reactor Regulation.

[FR Doc. 2010-32252 Filed 12-22-10; 8:45 am]

BILLING CODE 7590-01-P